DEPARTMENT OF TRANSPORTATION

Federal Aviation Administration

14 CFR Part 71

[Docket No. FAA-2015-3361; Airspace Docket No. 15-AEA-4]

RIN 2120-AA66

Amendment of Air Traffic Service (ATS) Routes; Northeast United States

AGENCY: Federal Aviation Administration (FAA), DOT.

ACTION: Final rule.

SUMMARY: This action modifies jet routes J-6, J-97, and J-222, and VOR Federal airways V-196, and V-489, in the northeastern United States due to the planned decommissioning of the Plattsburgh, NY, VORTAC facility. These route changes enhance the safety and management of airspace within the National Airspace System.

DATES: Effective date 0901 UTC, March 31, 2016. The Director of the Federal Register approves this incorporation by reference action under 1 CFR part 51, subject to the annual revision of FAA Order 7400.9 and publication of conforming amendments.

ADDRESSES: FAA Order 7400.9Z, Airspace Designations and Reporting Points, and subsequent amendments can be viewed online at http://www.faa.gov/air_traffic/publications/. For further information, you can contact the Airspace Policy Group, Federal Aviation Administration, 800 Independence Avenue SW., Washington, DC 20591; telephone: 202-267-8783. The Order is also available for inspection at the National Archives and Records Administration (NARA). For information on the availability of FAA Order JO 7400.9Z at NARA, call 202-741-6030 or go to http://www.archives.gov/federal_register/code_of_federal-regulations/ibr_locations.html.

FAA Order 7400.9, Airspace Designations and Reporting Points, is published yearly and effective on September 15.

FOR FURTHER INFORMATION CONTACT: Paul Gallant, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the air traffic service route structure in the northeast United States to maintain the efficient flow of air traffic.

History

On September 14, 2015, the FAA published in the Federal Register a notice of proposed rulemaking (NPRM) to amend jet routes J-6, J-97 and J-222; and VOR Federal airways V-196 and V-489 in the northeastern United States (80 FR 55049, FR. Doc. 2015-22876). Interested parties were invited to participate in this rulemaking effort by submitting written comments on the proposal. Two comments were received.

Discussion of Comments

Both commenters agreed with the proposal; however, one individual wrote that the V-196 and V-489 modifications should be delayed for one year after the relocation of the jet routes to provide pilots with backup. The FAA finds it is not possible to delay the modifications to V-196 and V-489 because the cancelled segments of those airways are based on the Plattsburgh VORTAC, which is being commissioned.

Jet routes are published in paragraph 2004 and VOR Federal airways are published in paragraph 6010(a) respectively, of FAA Order 7400.9Z dated August 6, 2015, and effective September 15, 2015, which is incorporated by reference in 14 CFR 71.1. The jet routes and VOR Federal airways listed in this document will be subsequently published in the Order.

Availability and Summary of Documents for Incorporation by Reference

This document amends FAA Order 7400.9Z, Airspace Designations and Reporting Points, dated August 6, 2015, and effective September 15, 2015. FAA Order 7400.9Z is publicly available as listed in the ADDRESSES section of this document. FAA Order 7400.9Z lists Class A, B, C, D, and E airspace areas, air traffic service routes, and reporting points.

The Rule

This action amends Title 14, Code of Federal Regulations (14 CFR) part 71 by modifying the descriptions of jet routes J-6, J-97 and J-222; and VOR Federal airways V-196 and V-489, due to the planned decommissioning of the Plattsburgh VORTAC in New York. The jet routes and VOR Federal airways are being modified as follows:

J-6 Jet route J-6 is terminated on the east end at Albany, NY. The segment between Albany and Plattsburgh, NY is removed.

J-97 Jet route J-97 is terminated at Boston, MA, removing the segment between Boston and Plattsburgh.

J-222 Jet route J-222 is terminated at Cambridge, NY, removing the segment between Cambridge and Plattsburgh.

V-196 Federal airway V-196 is terminated at the intersection of the Saranac Lake, NY, 058°(T) and the Burlington, VT 296°(T) radials, removing the segment between that intersection and Plattsburgh.

V-489 Federal airway V-489 is terminated at Glens Falls, NY, removing the segment between Glens Falls and Plattsburgh.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation because the anticipated impact is so minimal. Since this is a routine matter that only affects air traffic procedures and air navigation, it is certified that this rule does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.9Z, Airspace Designations and Reporting Points, dated August 6, 2015 and effective September 15, 2015, is amended as follows:

Paragraph 2004 Jet Routes.

* * * * *

J-6 [Amended]

From Salinas, CA, via INT Salinas 145° and Avenal, CA, 292° radials; Avenal; INT Avenal 119° and Palmdale, CA, 310° radials; Palmdale; Hector, CA; Needles, CA; Drake, AZ; Zuni, AZ; Albuquerque, NM; Tucumcari, NM; Panhandle, TX; Will Rogers, OK; Little Rock, AR; Bowling Green, KY; Charleston, WV; INT Charleston 076° and Martinsburg, WV, 243° radials; Martinsburg; Lancaster, PA; Broadway, NJ; Sparta, NJ; to Albany, NY.

* * * * *

J-97 [Amended]

From lat. 39°07′00″ N., long. 67°00′00″ W. via Nantucket, MA; to Boston, MA.

* * * * *

J-222 [Amended]

From Robbinsville, NJ; INT Robbinsville 039° and Kennedy, NY, 253° radials; Kennedy; INT Kennedy 022° and Cambridge, NY, 179° radials; to Cambridge.

* * * * *

Paragraph 6010(a) Domestic VOR Federal Airways.

V-196 [Amended]

From Utica, NY, Saranac Lake, NY; to INT Saranac Lake 058° and Burlington, VT 296° radials.

* * * * *

V-489 [Amended]

From INT Sparta, NJ, 300° and Huguenot, NY, 196° radials; Huguenot; INT Huguenot 008° and Albany, NY, 209° radials; Albany; to Glens Falls, NY.

Issued in Washington, DC, on February 8, 2016.
Leslie M. Swann,
Acting Manager, Airspace Policy Group.

[FR Doc. 2016-03060 Filed 2-16-16; 8:45 am]

BILLING CODE 4910-13-P